DEPARTMENT OF LABOR

Employment and training Administration

Investigations Regarding Certifications of Eligibility To Apply for Worker Adjustment Assistance

Petitions have been filed with the Secretary of labor under Section 221(a) of the trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other person showing a substantial interest in the subject matter of the investigations may request a public hearing, provided such request is filed in writing with the Director, Division of Trade Adjustment Assistance, at the address shown below, not later than December 30, 2002.

Interested persons are invited to submit written comments regarding the subject matter of the investigations to the Director, Division of Trade Adjustment Assistance, at the address shown below, not later than December 30, 2002.

The petitions filed in this case are available for inspection at the Office of the Director, Division of Trade Adjustment Assistance, Employment and Training Administration, U.S. Department of Labor, Room C-5311, 200 Constitution Avenue, NW., Washington, DC 20210.

Signed at Washington, DC this 29the day of November, 2002.
Edward A. Tomchick,
Director, Division of Trade Adjustment Assistance.

Appendix
[Petitions instituted between 11/18/2002 and 11/22/2002]
TA-W | Subject Firm (petitioners) | Location | Date of institution | Date of petition
50,107 | Optek Technology, Inc. (Wkrs) | Carrollton, TX | 11/18/2002 | 11/15/2002
50,108A | Ericsson, Inc. (Comp) | Richardson, TX | 11/18/2002 | 11/15/2002
50,108 | Ericsson, Inc. (Comp) | Plano, TX | 11/18/2002 | 11/15/2002
50,109 | Creative Mold Co., LLC (Comp) | Auburn, ME | 11/18/2002 | 11/15/2002
50,110 | Emerson Motor Company (Comp) | Sturgeon Bay, WI | 11/18/2002 | 11/12/2002
50,111 | Osram Sylvania Products, Inc. (Comp) | Bangor, ME | 11/18/2002 | 11/15/2002
50,112 | California Manufacturing Co. (Comp) | Pelahatchie, MS | 11/18/2002 | 11/05/2002
50,113 | Fleming Lumber Co. (Comp) | Milligan, FL | 11/18/2002 | 11/18/2002
50,114 | Cadmus Mack (Wkrs) | E. Stroudsburg, PA | 11/18/2002 | 11/18/2002
50,115 | Intel Corp. (Wkrs) | Chandler, AZ | 11/18/2002 | 11/11/2002
50,116 | J-Star Bodco, Inc. (Comp) | Ft. Atkinson, WI | 11/18/2002 | 11/16/2002
50,117 | Flextronics International (Wkrs) | Longmont, CO | 11/19/2002 | 11/12/2002
50,118 | Volex, Inc. (Comp) | Clinton, AR | 11/19/2002 | 11/07/2002
50,119 | U.S. Repeating Arms Company (Comp) | New Haven, CT | 11/19/2002 | 11/08/2002
50,120 | TIMET (USWA) | Henderson, NV | 11/19/2002 | 11/12/2002
50,121 | VMV Enterprises, Inc. (IAMAW) | Paducah, KY | 11/19/2002 | 11/18/2002
50,122 | FCI USA, Inc. (Wkrs) | Etters, PA | 11/19/2002 | 11/14/2002
50,123 | Garden State Tanning, Inc. (UNITE) | Fleetwood, PA | 11/19/2002 | 11/04/2002
50,124 | Thomson Multimedia, Inc. (Wkrs) | Lancaster, PA | 11/19/2002 | 11/08/2002
50,125 | Ovalstrapping, Inc. (Wkrs) | Hoquiam, WA | 11/19/2002 | 11/13/2002
50,126 | Johnson Controls, Inc. (UAW) | Fullerton, CA | 11/19/2002 | 11/13/2002
50,127 | Orgreen Corp. (Wkrs) | Bend, OR | 11/19/2002 | 11/15/2002
50,128 | GE Gas Turbines (Wkrs) | Greenville, SC | 11/19/2002 | 11/15/2002
50,129 | IBM (Wkrs) | Piscataway, NJ | 11/19/2002 | 11/13/2002
50,130 | Lakeview Forge Company (USWA) | Erie, PA | 11/19/2002 | 11/18/2002
50,131 | Lear Corporation (UNITE) | Carlisle, PA | 11/19/2002 | 11/11/2002
50,132 | Ceramic Cooling Technologies (Comp) | Fort Worth, TX | 11/19/2002 | 11/07/2002
50,133 | Phelps Dodge Wire and Cable (Wkrs) | W. Caldwell, NJ | 11/19/2002 | 11/14/2002
50,134 | Zierick Manufacturing Corp. (Wkrs) | Yatesboro, PA | 11/19/2002 | 11/14/2002
50,135 | Punch Components (Wkrs) | Lima, OH | 11/19/2002 | 11/12/2002
50,136 | Bissell Homecare, Inc. (Comp) | Walker, MI | 11/19/2002 | 11/11/2002
50,137 | SL Outer Banks, LLC (Comp) | Lumberton, NC | 11/19/2002 | 11/18/2002
50,138 | BBA Nonwovens (AWPPW) | Washougal, WA | 11/20/2002 | 11/19/2002
50,139 | Lau Industries (Wkrs) | Fridley, MN | 11/20/2002 | 11/15/2002
50,140 | Basler Electric Company (Comp) | Corning, AR | 11/20/2002 | 11/18/2002
50,141 | Tecumseh (IAM) | New Holstein, WI | 11/20/2002 | 11/19/2002
50,142 | Midas International Corporation (PACE) | Hartford, WI | 11/20/2002 | 11/19/2002
50,143 | True North Enterprises (Wkrs) | La Feria, TX | 11/20/2002 | 11/19/2002
50,144 | Saint-Gobain Abrasives (Comp) | Flowery Branch, GA | 11/20/2002 | 11/12/2002
50,145 | Ardco Holdings, Inc. (Comp) | Scottsboro, AL | 11/20/2002 | 11/19/2002
50,146 | Tetra Tool Company (Wkrs) | Erie, PA | 11/20/2002 | 11/12/2002
50,147 | Sanmina-SCI Corporation (Comp) | Word Hill, MA | 11/20/2002 | 11/14/2002
50,148 | Newark Atlantic Paper Board (PACE) | Lawrence, MA | 11/20/2002 | 11/18/2002
50,149 | New Roan Corp. (Comp) | Hialeah, FL | 11/21/2002 | 11/05/2002
50,150 | Thomasville Furniture Industries, Inc. (Comp) | Thomasville, NC | 11/21/2002 | 11/20/2002
50,151 | Sig Doboy (Wkrs) | New Richmond, WI | 11/21/2002 | 11/20/2002
50,152 | Kennecott Rawhide Mining Company (Comp) | Fallon, NV | 11/21/2002 | 11/20/2002
50,153 | Triangle Apparel, Inc. (Comp) | Parsons, TN | 11/21/2002 | 11/20/2002
50,154 | Aurafin OroAmerica (Wkrs) | Burbank, CA | 11/21/2002 | 11/12/2002
50,155 | PCC Airfoils (Wkrs) | Douglas, GA | 11/21/2002 | 11/18/2002
50,156 | ITT Industries—Jabsco (UAW) | Costa Mesa, CA | 11/21/2002 | 11/19/2002
50,157 | Durango-Georgia Paper Col (Comp) | St. Marys, GA | 11/21/2002 | 11/14/2002
50,158 | Alcatel USA (Wkrs) | Plano, TX | 11/21/2002 | 11/19/2002
50,159 | Pliant Solutions (Wkrs) | Ft. Edward, NY | 11/21/2002 | 11/13/2002
50,160 | Edward Vogt Valve Company (Wkrs) | Jeffersonville, IN | 11/21/2002 | 11/18/2002
50,161 | Magruder Color Company, Inc. (Comp) | Elizabeth, NJ | 11/21/2002 | 11/06/2002
50,162 | Magnivision (Wkrs) | Miramar, FL | 11/21/2002 | 11/14/2002
50,163 | Seadrift Coke, L.P. (Comp) | Port Lavaca, TX | 11/22/2002 | 11/21/2002
50,164 | Sunbeam Products Inc. (Comp) | Neosho, MO | 11/22/2002 | 11/08/2002
50,165 | Weyerhaeuser Company (Comp) | Johnsonburg, PA | 11/22/2002 | 11/15/2002
50,166 | L. Chessler, Inc. (UNITE) | Philadelphia, PA | 11/22/2002 | 11/21/2002
50,167 | Bike Athletic Company (UNITE) | Knoxville, TN | 11/22/2002 | 11/21/2002
50,168 | Square D Company (Comp) | Knightdale, NC | 11/22/2002 | 11/20/2002
50,169 | Solectron Corporation (Comp) | Fremont, CA | 11/22/2002 | 11/21/2002
50,170 | Erasteel, Inc. (Wkrs) | McKeesport, PA | 11/22/2002 | 11/15/2002
50,171 | JK Tool and Die, Inc. (Comp) | Apollo, PA | 11/22/2002 | 11/22/2002
50,172 | Applied Films Corp. (Wkrs) | Longmont, CO | 11/22/2002 | 11/19/2002
50,173 | Twyford Int'l, Inc. (Comp) | Sebring, FL | 11/22/2002 | 11/15/2002

[FR Doc. 02-32098 Filed 12-19-02; 8:45 am]

BILLING CODE 4510-30-M